DEPARTMENT OF AGRICULTURE

Forest Service

Daniel Boone National Forest Resource Advisory Committee

AGENCY: Forest Service, USDA.

ACTION: Notice of meeting.

SUMMARY: The Daniel Boone National Forest Resource Advisory Committee (RAC) will meet in London, Kentucky. The committee is authorized under the Secure Rural Schools and Community Self-Determination Act (Pub. L. 112-141) (the Act) and operates in compliance with the Federal Advisory Committee Act. The purpose of the committee is to improve collaborative relationships and to provide advice and recommendations to the Forest Service concerning projects and funding consistent with title II of the Act. The meeting is open to the public. The purpose of the meeting is to review and recommend projects authorized under title II of the Act.

DATES: The meeting will be held on September 18, 2012 beginning at 6 p.m.

ADDRESSES: The meeting will be held at the Cumberland Valley Area Development District, 342 Old Whitley Road, London, Kentucky 40744 in a meeting room on the basement floor.

Written comments may be submitted as described under Supplementary Information. All comments, including names and addresses when provided, are placed in the record and are available for public inspection and copying. The public may inspect comments received at Daniel Boone National Forest, 1700 Bypass Road, Winchester, Kentucky 40391. Please call ahead to 859-745-3100 to facilitate entry into the building to view comments.

FOR FURTHER INFORMATION CONTACT: Kimberly Morgan, RAC Coordinator, Daniel Boone National Forest, 1700 Bypass Road, Winchester, Kentucky 40391; 859-745-3100; email kmorgan@fs.fed.us. Individuals who use telecommunication devices for the deaf (TDD) may call the Federal Information Relay Service (FIRS) at 1-800-877-8339 between 8 a.m. and 8 p.m., Eastern Standard Time, Monday through Friday.

SUPPLEMENTARY INFORMATION: The following business will be conducted: Committee updates, status of 2011 approved projects, submitted projects, discussion of projects, and approval recommendations. The full agenda may be previewed at https://fsplaces.fs.fed.us/fsfiles/unit/wo/secure_rural_schools.nsf. Anyone who would like to bring related matters to the attention of the committee may file written statements with the committee staff before the meeting. The meeting is open to the public. The agenda will include time for people to make oral statements of three minutes or less. Individuals wishing to make an oral statement should request in writing by September 14, 2012 to be scheduled on the agenda. Written comments and requests for time for oral comments must be sent to 1700 Bypass Road, Winchester, Kentucky 40391 or by email to kmorgan@fs.fed.us or via facsimile to 859-744-1568. A summary of the meeting will be posted at the above Web site within 21 days of the meeting.

Meeting Accommodations: If you require sign language interpreting, assistive listening devices or other reasonable accommodations please request this in advance of the meeting by contacting the person listed in the section titled For Further Information Contact. All reasonable accommodation requests are managed on a case by case basis.

Dated: August 20, 2012.
Marie T. Walker,
Acting Forest Supervisor, Daniel Boone National Forest.

[FR Doc. 2012-21012 Filed 8-24-12; 8:45 am]

BILLING CODE 3410-11-P